DEPARTMENT OF HEALTH AND HUMAN SERVICES

Health Care Financing Administration

[Document Identifier: HCFA-R-246]

Agency Information Collection Activities: Proposed Collection; Comment Request

AGENCY: Health Care Financing Administration, HHS. In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision of a currently approved collection;

Title of Information Collection: The Medicare Managed Care CAHPS Survey and Supporting Regulations in 42 CFR 417.126 and 417.470;

Form No.: HCFA-R-246 (OMB# 0938-0732);

Use: The CAHPS data is necessary to hold the Medicare managed care industry accountable for the quality of care they are delivering. It is critical to HCFA's mission that we collect and disseminate information that will help beneficiaries choose among plans, contribute to improved quality of care through identification of quality improvement opportunities, and assist HCFA in carrying out its responsibilities.

Frequency: On occasion;

Affected Public: Individuals or Households, Business or other for-profit, and Not-for-profit institutions;

Number of Respondents: 168,000;

Total Annual Responses: 168,000;

Total Annual Hours: 55,450.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan HCFA-R-246, Room N2-14-26, 7500 Security Boulevard, Baltimore, Maryland 21244-1850.

Dated: September 11, 2000.
John P. Burke III,
HCFA Reports Clearance Officer, HCFA Office of Information Services, Security and Standards Group, Division of HCFA Enterprise Standards.

[FR Doc. 00-24278 Filed 9-20-00; 8:45 am]

BILLING CODE 4120-03-P